DEPARTMENT OF LABOR

Employment and Training Administration

[TA-W-56,151]

Cinergy Solutions of Rock Hill, Rock Hill, SC; Notice of Termination of Investigation

Pursuant to Section 221 of the Trade Act of 1974, an investigation was initiated on December 6, 2004 in response to a petition filed by a company official on behalf of workers at Cinergy Solutions of Rock Hill, Rock Hill, South Carolina.

The petitioner has requested that the petition be withdrawn. Consequently, the investigation has been terminated.

Signed in Washington, DC, this 10th day of December 2004.
Elliott S. Kushner,
Certifying Officer, Division of Trade Adjustment Assistance.

[FR Doc. E5-246 Filed 1-21-05; 8:45 am]

BILLING CODE 4510-30-P